DEPARTMENT OF AGRICULTURE

Food and Nutrition Service

7 CFR Part 273

[FNS-2016-0037]

RIN 0584-AE33

Supplemental Nutrition Assistance Program (SNAP): Employment and Training Program Monitoring, Oversight and Reporting Measures; Correction

AGENCY: Food and Nutrition Service (FNS), U.S. Department of Agriculture (USDA).

ACTION: Final rule; correction.

SUMMARY: The Food and Nutrition Service is correcting a final rule that appeared in the Federal Register on November 18, 2024. The document implements statutory requirements and policy improvements to strengthen the employment and training (E&T) program through the collection of information to determine the overall effectiveness of the E&T program in reaching the goal of assisting participants in obtaining the skills necessary to obtain and retain employment.

DATES: Effective January 17, 2025.

FOR FURTHER INFORMATION CONTACT: Loretta Robertson, Senior Program Analyst, SNAP Office of Employment and Training—5th Floor, USDA Food and Nutrition Service, 1320 Braddock Place, Alexandria, VA 22314 or at loretta.robertson@usda.gov, 703-605-3214.

SUPPLEMENTARY INFORMATION: In FR Doc. 2024-26809, appearing on page 90547 in the Federal Register of Monday, November 18, 2024, the following corrections are made:

1. For § 273.7:

i. On page 90568, in the second column, correct amendatory instruction 4; and

ii. On page 90569, in the second column, correct paragraphs (c)(17)(iii)(E) and (c)(17)(v)(C).

The corrections read as follows:

4. Amend § 273.7 by revising paragraphs (c)(6)(xviii) and (c)(16) and (17) to read as follows:

§ 273.7 [Corrected]

* * * * *

(c) * * *

(17) * * *

(iii) * * *

(E) E&T participants who obtained high school diploma or equivalency prior to referral to E&T services; and

* * * * *

(v) * * *

(C) E&T participants who obtained high school diploma or equivalency prior to referral to E&T services;

* * * * *

Tameka Owens,
Acting Administrator and Assistant Administrator, Food and Nutrition Service.

[FR Doc. 2024-28363 Filed 12-4-24; 8:45 am]

BILLING CODE 3410-30-P